DEPARTMENT OF ENERGY

Federal Energy Regulatory Commission

[Docket No. RP10-1045-000]

Arena Energy, L.P. v. Sea Robin Pipeline Company, LLC; Notice of Complaint

August 3, 2010.

Take notice that on August 2, 2010, pursuant to Rule 206 of the Federal Energy Regulatory Commission's (Commission) Rules of Practice and Procedure, 18 CFR 385.206 (2010), Arena Energy, L.P. (Complainant) filed a formal complaint against Sea Robin Pipeline Company, LLC (Respondent) alleging that the Respondent impermissibly terminated an interruptible transportation service (ITS) agreement prior to the expiration of its associated discounted rate term.

Complainant certifies that copies of the complaint were served on the corporate officials the Respondent registered with the Commission.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 23, 2010.

Nathaniel J. Davis, Sr.,
Deputy Secretary.

[FR Doc. 2010-20133 Filed 8-13-10; 8:45 am]

BILLING CODE 6717-01-P